COMMITTEE FOR THE IMPLEMENTATION OF TEXTILE AGREEMENTS

Determination under the Textile and Apparel Commercial Availability Provision of the Dominican Republic-Central America-United States Free Trade Agreement (CAFTA-DR Agreement)

September 15, 2008.

AGENCY: The Committee for the Implementation of Textile Agreements

ACTION: Determination to add a product in unrestricted quantities to Annex 3.25 of the CAFTA-DR Agreement.

EFFECTIVE DATE: September 19, 2008.

SUMMARY: The Committee for the Implementation of Textile Agreements (CITA) has determined that certain three-yarn circular stretch knit fleece fabrics, as specified below, are not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482 3651.

FOR FURTHER INFORMATION ON-LINE: http://web.ita.doc.gov/tacgi/CaftaReqTrack.nsf.Reference number: 82.2008.08.05.Fabric.ST&RforBadger Sportswear

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On March 21, 2007, CITA published Final Procedures it would follow in considering requests to modify the Annex 3.25 list (72 FR 13256) (“procedures”).

On August 5, 2008, the Chairman of CITA received a Request for a commercial availability determination (“Request“) under the CAFTA-DR from Sandler, Travis & Rosenberg, P.A., on behalf of Badger Sportswear Inc., for certain three-yarn circular stretch knit fleece fabrics. On August 7, 2008, in accordance with CITA's procedures, CITA notified interested parties of the Request and posted the Request on the dedicated website for CAFTA-DR Commercial Availability. In its notification, CITA advised that any Response with an Offer to Supply (“Response”) must be submitted by August 19, 2008, and any Rebuttal be submitted by August 25, 2008. On August 19, 2008, CITA advised interested parties that it would extend its deadlines, such that Responses would be due by August 20, 2008, and that Rebuttals would be due by August 26, 2008.

CITA received a Response from Elasticos Centroamericanos y Textiles (“Elcatex“) objecting to the Request and offering to supply a substitute for the subject product. Badger submitted a Rebuttal to Elcatex's Response, arguing that Elcatex had failed to demonstrate that its proposed fabric was an acceptable substitute for the subject product. Because there was insufficient information on the record of the proceeding to make a determination whether the fabric proposed by Elcatex was an acceptable substitute, on August 28, 2008, the Chairman of CITA issued supplemental questions to both Elcatex and Badger regarding the proposed fabric. Submissions from Elcatex and Badger were received on September 2, 2008.

Section 203(o)(4)(C)(ii) of the CAFTA-DR Act provides that after receiving a Request, a determination will be made as to whether the subject product is available in commercial quantities in a timely manner in the CAFTA-DR countries. In the instant case, the information on the record clearly indicates that Badger made significant efforts to source the fabric in the CAFTA-DR countries, including from Elcatex, and that Elcatex has not demonstrated that it can supply either the specified fabric or an acceptable substitute. Therefore, in accordance with section 203(o) of the CAFTA-DR Act, and CITA's procedures, as CITA has determined that the subject product is not available in commercial quantities in a timely manner, CITA has determined to add the specified fabrics to the list in Annex 3.25 of the CAFTA-DR Agreement.

CITA notes that in accordance with section 203(o)(4) of the CAFTA-DR Act, Article 3.25 of the CAFTA-DR Agreement, and section 9 of its procedures, six months after CITA's determination that a product is not commercially available in the CAFTA-DR countries, a CAFTA-DR supplier may submit a Request to Remove or Restrict a specific fabric that had been added to the Commercial Availability List in Annex 3.25. The supplier may request that the product be removed, but must provide the same substantive information as required of Responses, as provided in section 6 of CITA's procedures. Should CITA determine that the product is available in commercial quantities in a timely manner in the CAFTA-DR countries, e.g. that a CAFTA-DR supplier has demonstrated that it is capable to supply the subject product, that product will be removed from the Commercial Availability List in Annex 3.25.

The subject fabric has been added to the list in Annex 3.25 of the CAFTA-DR Agreement in unrestricted quantities. A revised list has been posted on the dedicated website for CAFTA-DR Commercial Availability.

Specifications:
Three-Yarn Circular Stretch Knit Fleece
HTS: 6001.21.00
Description: Three yarn circular knit stretch fleece fabric, 20 gauge
Face Yarn:
Fiber Content:
60% ring spun cotton/40% polyester
Average Yarn Number:
Metric - 51/1
English - 30/1
Tie Yarn:
Fiber Content:
60% ring spun cotton/40% polyester
Average Yarn Number:
Metric - 51/1
English - 30/1
Nap (Fleece) Yarn:
Fiber Content:
52% ring spun cotton/48% polyester
Average Yarn Number:
Metric - 17/1
English - 10/1
NOTE: Yarn sizes relate to size prior to texturizing.
Weight:
Metric - 305-330 grams per sq. m.
English - 9.0-9.8 oz. per sq. yd.
Width: Slit open and finished to:
Metric - 156-163 cm
English - 62-64 inches
Finish: Bleached and/or piece dyed. Napped on technical back.
NOTE: All physical parameters may vary by plus/minus 5%. Fiber content may vary by plus/minus 3%.
Performance Characteristics:
Shrinkage: 6% maximum shrinkage (length and width); 1% positive shrinkage (AATCC No. 135).
Torque/Spirality: Maximum 5 degrees left or right (protractor method).
Stretch: Minimum 20% stretch in length, 30% in width.
Pilling: Grade 4 or better on technical face (ASTM D3512 Random Tumble Method)
Color Fastness to laundering: Grade 4 or better on polyester and cotton portions of multifiber strip (AATCC 61 Test No. 2A)
Color Fastness to wear: Grade 4 or better (AATCC 107)
Color Fastness to heat: Grade 4 or better on white polyester fabric (AATCC 117 Test Temperature II)
Color Fastness to crocking: Grade 4 or better dry; Grade 3 or better wet technical face side (AATCC 8)
Flammability: Class 1
Appearance: No obvious wale pattern (must be smooth); soft finish

R. Matthew Priest,
Chairman, Committee for the Implementation of Textile Agreements.

[FR Doc. E8-22004 Filed 9-18-08; 8:45 am]

BILLING CODE 3510-DS